Title 3—

The President

Proclamation 10058 of July 24, 2020

Anniversary of the Americans With Disabilities Act, 2020

By the President of the United States of America

A Proclamation

On the 30th anniversary of the Americans with Disabilities Act (ADA), we celebrate the landmark legislation that helped opened the door for every person with a disability to participate fully and independently in our society. Today, we reflect on the progress we have made as a Nation in securing equal rights and defending the inherent dignity of all Americans, and we reaffirm our commitment to further advancing accessibility for those with disabilities.

Since the ADA became law three decades ago, it has facilitated greater opportunities for Americans with disabilities to engage in their communities, improving access to employment, government services, public accommodations, commercial facilities, and public transportation. Building on this foundation, my Administration is supporting the full participation and inclusion of the more than 61 million Americans currently living with disabilities by continuing to work to expand their access to everyday life. We have established an unprecedented level of coordination across the Federal Government in addressing the significant gaps in employment between Americans with and without disabilities through our Multi-Agency Task Force on Improving Employment for People with Disabilities. We also continue to encourage research that will advance technology and medicine to allow Americans with disabilities to live more independent lives. Additionally, in order to help ease the financial burdens that Americans with disabilities often face, we are raising awareness of Achieving a Better Life Experience (ABLE) accounts, which allow money to be saved for qualified disability-related expenses without having to pay taxes on earnings.

As our Nation continues to battle the coronavirus, my Administration has remained committed to the principles of the ADA, working to ensure that no American is denied the care they need because of a disability. We have removed barriers and invested in communities and States to help those with disabilities safely stay home if they become ill. In April, the Department of Health and Human Services announced nearly $1 billion in grants to help meet the needs of older Americans and persons with disabilities during the crisis. This funding is providing in-home care to those who need it and direct support and services to those who are experiencing disruptions to their independent, community-based living due to the pandemic. It is also helping to connect people at greatest risk of serious illness from the coronavirus, as well as to services needed to practice social distancing and to mitigate issues such as social isolation.

Through their tenacity and grit, Americans with disabilities have made contributions that have strengthened our country. As we reopen workplaces, we will once again implement an economic agenda that delivers unprecedented opportunities to people with disabilities. Already, Federal agencies are working together to help people who acquire disabilities due to illness, including the coronavirus, or injury return to their jobs and support their families. My Administration's Retaining Employment and Talent after Injury/Illness Network (RETAIN) demonstration project, managed by the Department of Labor and the Social Security Administration, is testing new ways to help ill or injured workers stay on the job or resume employment as soon as medically possible so they can keep supporting their families and contributing to the economy.

At the same time, my Administration's historic investment in apprenticeship is paving new career pathways, and we are committed to ensuring that they are accessible to all, including youth and adults with disabilities. The Apprenticeship Inclusion Models (AIM) demonstration project at the Department of Labor is piloting approaches to open up new pathways to high-demand careers in industries such as technology and healthcare.

On this milestone anniversary of the ADA, we recommit to the full inclusion of all persons with disabilities in America. Together, we will continue to remove the barriers that prevent Americans with disabilities from harnessing their full potential.

NOW, THEREFORE, I, DONALD J. TRUMP, President of the United States of America, by virtue of the authority vested in me by the Constitution and the laws of the United States, do hereby proclaim July 26, 2020, as a day in celebration of the 30th Anniversary of the Americans with Disabilities Act. I call upon all Americans to observe this day with appropriate ceremonies and activities that celebrate the contributions of Americans with disabilities and to renew our commitment to achieving the promise of our freedom for all Americans.

IN WITNESS WHEREOF, I have hereunto set my hand this twenty-fourth day of July, in the year of our Lord two thousand twenty, and of the Independence of the United States of America the two hundred and forty-fifth.

[FR Doc. 2020-16591

Filed 7-28-20; 11:15 am]

Billing code 3295-F0-P